DEPARTMENT OF TRANSPORTATION

Federal Railroad Administration

[Docket Number FRA-2015-0106]

Petition for Special Approval of Alternate Standard

In accordance with Part 232 of Title 49 Code of Federal Regulations (CFR), this document provides the public notice that by a document dated September 17, 2015, the National Railroad Passenger Corporation (Amtrak) has requested a Special Approval of an alternate standard for 49 CFR 238.311(a)—Single car test, as prescribed in 49 CFR 238.21(b)—Special approval procedure. FRA assigned the request Docket Number FRA-2015-0106.

Amtrak requests permission to continue to maintain and test the 9600 series cab coach car CCB II brake systems under the requirements of 49 CFR 229.29 as an alternative maintenance procedure that provides equivalent safety to the standard in APTA-PR-M-S-005-98 Rev 2.1 outlined in 49 CFR 238.311.

Amtrak's fleet of 9600 series cab coach cars was originally equipped with a 26-C (car) type of brake system along with additional 26-L (locomotive) style of control valves in the cab, to control the brake system when in push/pull service. Amtrak previously maintained and tested the 26-C style of valves per 49 CFR 238.309 and the 26-L style of valves per 49 CFR 229.29, along with the requirement of FRA Form F6180-49A (“Blue Card”) to be located in the cab. The main reservoir leakage tests and the brake cylinder leakage tests were conducted per APTA-PR-M-S-005-98 Rev 2.1.

The cab cars are presently equipped with New York Air Brake's CCB II brake system designed for locomotives and are being maintained and tested under the requirements of 49 CFR 229.29. The main reservoir leakage test and the brake cylinder leakage test continue to be tested per APTA-PR-M-S-005-98 Rev 2.1. The 92-day and annual test procedures for these CCB II-equipped cab cars are found in documents submitted to the public docket.

Copies of these documents and the petition, as well as any written communications concerning the petition, are available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 11, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Safety, Chief Safety Officer.

[FR Doc. 2016-21762 Filed 9-8-16; 8:45 am]

BILLING CODE 4910-06-P